DEPARTMENT OF DEFENSE

32 CFR Chs. I, V, VI, and VII

33 CFR Ch. II

36 CFR Ch. III

48 CFR Ch. II

Improving Government Regulations; Unified Agenda of Federal Regulatory and Deregulatory Actions

AGENCY: Department of Defense (DoD).

ACTION: Semiannual Regulatory Agenda.

SUMMARY: This agenda announces the regulatory and deregulatory actions the Department of Defense (DoD) plans to take in the next 12 months and those regulatory and deregulatory actions completed since the publication of the Fall 2024 Unified Agenda. It was developed under the guidelines of Executive Order 12866, “Regulatory Planning and Review,” and Executive Order 13563, “Improving Regulation and Regulatory Review.” This agenda includes actions that support the Administration's priorities, the Secretary of Defense's top priorities to revive warrior ethos, rebuild our military, reestablish deterrence, as well as those priorities of the National Defense Strategy. These actions include efforts to make America safe, make America affordable and energy dominant, and bring back American values. Members of the public may submit comments on individual proposed and interim final rulemakings at www.regulations.gov during the comment period that follows publication in the Federal Register.

This agenda updates the report published on December 13, 2024, and includes regulations expected to be issued or under review by DoD over the next 12 months. The next agenda will publish in the fall of 2025. The complete Unified Agenda will be available online at www.reginfo.gov.

In accordance with the Regulatory Flexibility Act (5 U.S.C. 602), which requires agencies to publish their regulatory flexibility agendas in the Federal Register, the Department of Defense's printed agenda entries in the Federal Register include only:

(1) rules that are in the Agency's regulatory flexibility agenda, in accordance with the Regulatory Flexibility Act, because they are likely to have a significant economic impact on a substantial number of small entities; and

(2) Any rules that the Agency has identified for periodic review under the Regulatory Flexibility Act (5 U.S.C. 610).

Although printing of these entries is limited to fields that contain information required by the Regulatory Flexibility Act's agenda requirements, additional information on these entries is in the Unified Agenda available online.

FOR FURTHER INFORMATION CONTACT: For information concerning the overall DoD regulatory program and for general semiannual agenda information, contact Ms. Andrea Miller, telephone 571-372-3310, or write to Office of the Assistant to the Secretary of Defense for Privacy, Civil Liberties, and Transparency, Regulatory Directorate, 1155 Defense Pentagon, Washington, DC 20301-1155, or email: andrea.e.miller1.civ@mail.mil.

For questions of a legal nature concerning the agenda and its statutory requirements or obligations, write to Office of the General Counsel, 1600 Defense Pentagon, Washington, DC 20301-1600, telephone 703-695-1853, or email: gerald.j.dziecichowicz.civ@mail.mil.

For general information on Office of the Secretary of Defense regulations, other than those which are procurement-related, contact Ms. Andrea Miller, telephone 571-372-3310, or write to Office of the Assistant to the Secretary of Defense for Privacy, Civil Liberties, and Transparency, Regulatory Directorate, 1155 Defense Pentagon, Washington, DC 20301-1155, or email: andrea.e.miller1.civ@mail.mil.

For general information on Office of the Secretary of Defense regulations which are procurement-related, contact Ms. Jennifer Johnson, telephone 571-372-6100, or write to Office of the Under Secretary of Defense for Acquisition and Sustainment, Defense Pricing and Contracting, Defense Acquisition Regulations System, Room 3B941, 3060 Defense Pentagon, Washington, DC 20301-3060, or email: jennifer.d.johnson1.civ@mail.mil.

For general information on Department of the Army regulations, contact Mr. James “Jay” Satterwhite, telephone 571-515-0304, or write to the U.S. Army Records Management and Declassification Agency, ATTN: AAHS-RDO, Building 1458, 9301 Chapek Road, Ft. Belvoir, VA, 22060-5605, or email: james.w.satterwhite.civ@mail.mil.

For general information on the U.S. Army Corps of Engineers regulations, contact Mr. Elliott Carman, telephone 703-300-2899, or write to Office of the Assistant Secretary of the Army (Civil Works), 108 Army Pentagon, Room 3E441, Washington, DC 20310-0108, or email: elliott.n.carman.civ@army.mil.

For general information on Department of the Navy regulations, contact LCDR Alexandra Gioiello, telephone 703-614-7408, or write to Department of the Navy, Office of the Judge Advocate General, Administrative Law Division (Code 13), Washington Navy Yard, 1322 Patterson Avenue SE, Suite 3000, Washington, DC 20374-5066, or email: alexandra.j.gioiello2.mil@us.navy.mil.

For general information on Department of the Air Force regulations, contact Mr. Robert Bivins, telephone 703-693-7302, or write the Office of the Secretary of the Air Force, Chief, Information Dominance/Chief Information Officer (SAF CIO/A6), 1800 Air Force Pentagon, Washington, DC 20330-1800, or email: usaf.pentagon.saf-cio-a6.mbx.af-foia@mail.mil.

For specific agenda items, contact the appropriate individual indicated for each action.

SUPPLEMENTARY INFORMATION: This edition of the Unified Agenda of Federal Regulatory and Deregulatory Actions reports on actions planned by the Office of the Secretary of Defense, the Military Departments, the Office of the Under Secretary of Defense for Acquisition and Sustainment for procurement-related actions, and the U.S. Army Corps of Engineers.

This agenda also identifies rules impacted by the:

a. Regulatory Flexibility Act.

b. Paperwork Reduction Act of 1995.

c. Unfunded Mandates Reform Act of 1995.

Generally, rules discussed in this agenda will contain five sections: (1) pre-rule stage; (2) proposed rule stage; (3) final rule stage; (4) completed actions; and (5) long-term actions. Where certain actions indicate that small entities are affected, the effect on these entities may not necessarily have significant economic impact on a substantial number of these entities as defined in the Regulatory Flexibility Act (5 U.S.C. 601(6)).

The publishing of this agenda does not waive the applicability of the military affairs exemption in section 553 of title 5 U.S.C. and section 3 of Executive Order 12866.

Michael Kremlacek,
Acting Assistant to the Secretary of Defense for Privacy, Civil Liberties, and Transparency, Department of Defense.

Defense Acquisition Regulations Council—Final Rule Stage
Sequence No. | Title | Regulation Identifier No.
57 | Assessing Contractor Implementation of Cybersecurity Requirements (DFARS Case 2019-D041) | 0750-AK81

Department of Defense (DOD): Defense Acquisition Regulations Council (DARC) | Final Rule Stage

57. ASSESSING CONTRACTOR IMPLEMENTATION OF CYBERSECURITY REQUIREMENTS (DFARS CASE 2019-D041) [0750-AK81]

Legal Authority: 41 U.S.C. 1303; Pub. L. 116-92, sec. 1648

Abstract: DoD is issuing a final rule amending the Defense Federal Acquisition Regulation Supplement (DFARS) to implement the contractual requirements associated with the CMMC 2.0 Framework in order to protect against the theft of intellectual property and sensitive information from the Defense Industrial Base (DIB) sector. The CMMC 2.0 Framework, as defined in 32 CFR part 170, assesses compliance with applicable information security requirements. This rule provides DoD with assurances that a DIB contractor can adequately protect sensitive unclassified information at a level commensurate with the risk, accounting for information flow down to its subcontractors in a multi-tier supply chain. The annualized costs associated with this rule are estimated at approximately $16 million for the public.

Timetable:

Action | Date | FR Cite
Interim Final Rule | 09/29/20 | 85 FR 48513
Interim Final Rule Comment Period End | 11/30/20
Interim Final Rule Effective | 11/30/20
NPRM | 08/15/24 | 89 FR 66327
NPRM Comment Period End | 10/15/24
Final Action | 10/00/25

Regulatory Flexibility Analysis Required: Yes

Agency Contact: Jennifer D. Johnson, Office of the Under Secretary of Defense for Acquisition and Sustainment, Department of Defense, Defense Acquisition Regulations Council, Defense Pricing, Contracting, & Acquisition Policy, Defense Acquisition Regulations System, Room 3B938, 3060 Pentagon, Washington, DC 20301-3060

Phone: 703 717-8226

Email: jennifer.d.johnson1.civ@mail.mil

RIN: 0750-AK81

[FR Doc. Filed 08-18-25; 0:00 a.m.]

BILLING CODE 5001-06-P

[FR Doc. 2025-18326 Filed 9-19-25; 8:45 am]

BILLING CODE 5001-06-P